SUSQUEHANNA RIVER BASIN COMMISSION

Actions Taken at December 14, 2023 Meeting

AGENCY: Susquehanna River Basin Commission.

ACTION: Notice.

SUMMARY: As part of its regular business meeting held on December 14, 2023, in Corning, New York, the Commission approved the applications of certain water resources projects and took additional actions, as set forth in the SUPPLEMENTARY INFORMATION below.

DATES: December 14, 2023.

ADDRESSES: Susquehanna River Basin Commission, 4423 N Front Street, Harrisburg, PA 17110-1788.

FOR FURTHER INFORMATION CONTACT: Jason E. Oyler, General Counsel, and Secretary, telephone: (717) 238-0423, ext. 1312, fax: (717) 238-2436; email: joyler@srbc.gov. Regular mail inquiries may be sent to the above address. See also the Commission website at www.srbc.gov.

SUPPLEMENTARY INFORMATION: In addition to the actions taken on projects identified in the summary above, these actions were also taken: (1) presented the William Jeanes award to Charlie and Joyce Andrews; (2) approved one grant agreement; (3) approved an authorization to release a proposed general permit GP-03 for public comment; (4) tabled an authorization to release a proposed rulemaking for public comment until the March 2024 business meeting; (5) ratification of two settlement agreements for regulatory violations, and (6) actions on 20 regulatory program projects.

Project Applications Approved

1. Project Sponsor and Facility: Appalachian Utilities, Inc., Pine Creek Township, Clinton County, Pa. Applications for groundwater withdrawals (30-day averages) of up to 0.576 mgd from Well 5 and 0.381 mgd from Well 6.

2. Project Sponsor and Facility: Conyngham/Sugarloaf Joint Municipal Authority, Conyngham Borough, Luzerne County, Pa. Applications for renewal of groundwater withdrawals (30-day averages) of up to 0.023 mgd from Well 1, 0.051 mgd from Well 3, and 0.216 mgd from Well 7 (Docket No. 20070301).

3. Project Sponsor and Facility: Eagles Crossing, Inc. (Conodoguinet Creek), North Middleton and Lower Frankford Townships, Cumberland County, Pa. Applications for renewal of surface water withdrawal of up to 0.249 mgd (peak day) and consumptive use of up to 0.249 mgd (30-day average) (Docket No. 19981207).

4. Project Sponsor and Facility: EQT ARO LLC (Pine Creek), Watson Township, Lycoming County, Pa. Application for renewal of surface water withdrawal of up to 0.720 mgd (peak day) (Docket No. 20181202).

5. Project Sponsor and Facility: Hummel Station, LLC (Susquehanna River), Shamokin Dam Borough and Monroe Township, Snyder County, Pa. Applications for renewal of surface water withdrawal of up to 10.000 mgd (peak day) and consumptive use of up to 6.500 mgd (peak day) (Docket No. 20081222).

6. Project Sponsor: KBK-HR Associates, LLC. Project Facility: Honey Run Golf Club, Dover Township, York County, Pa. Applications for renewal of surface water withdrawals (peak day) of up to 0.382 mgd from Honey Run and 0.350 mgd from Little Conewago Creek, and consumptive use of up to 0.200 mgd (30-day average) (Docket Nos. 20081215, 20081216, and 20081217).

7. Project Sponsor and Facility: Keystone Landfill, Inc., Dunmore Borough, Lackawanna County, Pa. Application for renewal of consumptive use of up to 0.360 mgd (peak day) (Docket No. 20080611).

8. Project Sponsor and Facility: Koppers Inc., Clinton Township, Lycoming County, Pa. Application for renewal of consumptive use of up to 0.040 mgd (peak day) (Docket No. 19880204).

9. Project Sponsor: Lucky Bear, LLC. Project Facility: Liberty Forge Golf Course (Yellow Breeches Creek), Lower and Upper Allen Townships, Cumberland County, Pa. Applications for renewal of surface water withdrawal of up to 0.432 mgd (peak day) and consumptive use of up to 0.375 mgd (peak day) (Docket No. 19980906).

10. Project Sponsor and Facility: Newport Borough Water Authority, Howe Township, Perry County, Pa. Applications for renewal of groundwater withdrawals (30-day averages) of up to 0.037 mgd from Well 10 and 0.050 mgd from Well 14 (Docket Nos. 19920506 and 19920706).

11. Project Sponsor and Facility: Nicholas Meat, LLC, Greene Township, Clinton County, Pa. Applications for groundwater withdrawals (30-day averages) of up to 0.288 mgd from Well WS-1, 0.173 mgd from Well WS-3, and 0.144 mgd from Well WS-4.

12. Project Sponsor and Facility: Pennsylvania General Energy Company, L.L.C. (Loyalsock Creek), Plunketts Creek Township, Lycoming County, Pa. Modification to intake location and design for the surface water withdrawal (Docket No. 20200312).

13. Project Sponsor and Facility: Repsol Oil & Gas USA, LLC (Seeley Creek), Wells Township, Bradford County, Pa. Application for renewal of surface water withdrawal of up to 0.750 mgd (peak day) (Docket No. 20181207).

14. Project Sponsor and Facility: Repsol Oil & Gas USA, LLC (Wyalusing Creek), Stevens Township, Bradford County, Pa. Application for renewal of surface water withdrawal of up to 1.500 mgd (peak day) (Docket No. 20181208).

15. Project Sponsor and Facility: Seneca Resources Company, LLC (Cowanesque River), Nelson Township, Tioga County, Pa. Application for renewal of surface water withdrawal of up to 0.533 mgd (peak day) (Docket No. 20181210).

16. Project Sponsor and Facility: Seneca Resources Company, LLC (Cowanesque River), Westfield Township, Tioga County, Pa. Application for renewal of surface water withdrawal of up to 0.400 mgd (peak day) (Docket No. 20181211).

17. Project Sponsor and Facility: Stewartstown Borough Authority, Stewartstown Borough, York County, Pa. Application for renewal of groundwater withdrawal of up to 0.044 mgd (30-day average) from Well 6 (Docket No. 19930903).

18. Project Sponsor and Facility: Village of Sidney, Town of Unadilla, Otsego County, N.Y. Applications for groundwater withdrawals (30-day averages) of up to 0.999 mgd from Well PW-2 and 0.999 mgd from Well PW-3.

19. Project Sponsor and Facility: Walker Township Water Association, Inc., Walker Township, Centre County, Pa. Application for renewal of groundwater withdrawal of up to 0.523 mgd (30-day average) from Snydertown Well 3 (Docket No. 20070905).

Project Tabled

1. Project Sponsor: Aqua Pennsylvania, Inc. Project Facility: Eagle Rock Utilities System, North Union Township, Schuylkill County, Pa. Application for groundwater withdrawal of up to 0.216 mgd (30-day average) from Well ER-7.

Authority: Public Law 91-575, 84 Stat. 1509 et seq., 18 CFR parts 806, 807, and 808.

Dated: December 19, 2023.
Jason E. Oyler,
General Counsel and Secretary to the Commission.

[FR Doc. 2023-28255 Filed 12-21-23; 8:45 am]

BILLING CODE 7040-01-P